DEPARTMENT OF TRANSPORTATION

National Highway Traffic Safety Administration

Agency Request for Information; State Property Damage Only (PDO) Data Collection Practices

AGENCY: National Highway Traffic Safety Administration (NHTSA), Department of Transportation (DOT).

ACTION: Request for information.

SUMMARY: This notice requests information from interested parties to assist the agency in researching property damage only (PDO) crash data collection practices across the United States. State statutes dictate that law enforcement should complete a crash report for PDO crashes meeting a set of criteria including when damage is above a certain dollar threshold that varies by State. When a crash is below the reportable threshold, States may allow civilians to complete a crash report designed specifically for them. In some cases, jurisdictions within States have stopped collecting PDO crashes in an effort to save officer time and/or money. Other jurisdictions have stopped sending sworn officers to respond to PDO crashes. However, the impacts of these changes on crash data collection are not well documented or understood. NHTSA is seeking to identify States and jurisdictions that have modified their PDO crash reporting threshold or are using citizen or non-sworn officers to report PDO crashes, and to determine the impacts of these practices on crash data analyses and agencies' budgets and time. NHTSA seeks comments from all interested parties, including State crash data owners, highway safety offices, law enforcement, and other stakeholders to help inform NHTSA's research into State PDO crash data collection practices.

DATES: Comments must be received on or before December 16, 2024.

ADDRESSES: You may submit comments using the Federal Docket Management System Docket ID NHTSA-2024-0023 by any of the following methods:

• Federal Rulemaking Portal: Go to https://www.regulations.gov. Follow the online instructions for submitting comments.

• Mail: Send comments to: Docket Management Facility, U.S. Department of Transportation, 1200 New Jersey Avenue SE, West Building, Room W12-140, Washington, DC 20590.

• Fax: Written comments may be faxed to (202) 493-2251.

• Hand Delivery: If you plan to submit written comments by hand or courier, please do so at 1200 New Jersey Avenue SE, West Building Ground Floor, Room W12-140, Washington, DC 20590 between 9 a.m. and 5 p.m. eastern time, Monday through Friday, except Federal holidays.

Please submit all comments to the Docket by December 16, 2024.

When you submit your comments, please remember to mention the agency and the docket number of this document within your correspondence. Please note that all comments received will be posted without change to https://www.regulations.gov, including any personal information provided. Please see the “Privacy Act” heading below.

Privacy Act: Anyone can search the electronic form of all comments received into any of our dockets by the name of the individual submitting the comments (or signing the comments, if submitted on behalf of an association, business, labor union, etc.). You may review DOT's complete Privacy Act Statement in the Federal Register published on April 11, 2000 (65 FR 19477-78) or at https://www.transportation.gov/privacy.

Confidential Information: If you wish to submit any information under a claim of confidentiality, you should submit three copies of your complete submission, including the information you claim to be confidential business information, to the Chief Counsel, NHTSA, 1200 New Jersey Avenue SE, Washington, DC 20590. In addition, you should submit two copies, from which you have deleted the claimed confidential business information, to Docket Management at the address given above under ADDRESSES. When you send a comment containing information claimed to be confidential business information, you should include a cover letter setting forth the information specified in our confidential business information regulation (49 CFR part 512).

Docket: For access to the docket to read the proposed changes to MMUCC, background documents, or comments received, go to http://www.regulations.gov at any time and follow the online instructions for accessing the dockets. Or go to West Building Ground Floor, Room W12-140, 1200 New Jersey Avenue SE, Washington, DC 20590, between 9 a.m. and 5 p.m., Eastern Time, Monday through Friday, except Federal holidays.

FOR FURTHER INFORMATION CONTACT: Please contact Beau Burdett, National Center for Statistics and Analysis, NHTSA (telephone: 202-366-7338 or email: beau.burdett@dot.gov).

SUPPLEMENTARY INFORMATION: From a national perspective, data comparability among States is important to practitioners' understanding of trends and countermeasure effectiveness. However, the United States does not have a single, uniform crash reporting standard. Fatal crashes are reported to the Fatality Analysis Reporting System (FARS) using a uniform set of data elements and case-inclusion criteria. A common way that States code crash severity is using the KABCO scale. KABCO is an abbreviation for the different levels of injury severity: Killed (fatal injury), A-level (suspected serious) injury, B-level (suspected minor) injury, C-level (possible) injury, or Property Damage Only (no injury). Though not all States use the KABCO scale, all are required to use a uniform definition for both fatalities and serious (A-level) injuries. The Federal Highway Administration's (FHWA) Safety Performance Management Measures (23 CFR part 490) and the National Highway Traffic Safety Administration's (NHTSA) Uniform Procedures for State Highway Safety Grant Programs (23 CFR part 1300) establish a single, national definition for States to report serious (A-level) injuries per the Model Minimum Uniform Crash Criteria (MMUCC). MMUCC supplies voluntary standard definitions of other crash severity levels (B- and C-level injuries, and property damage only—PDO).

Crash reporting criteria vary widely among States, especially concerning PDO crashes. Variations include differences in reporting threshold amounts, the use of full or abbreviated reports, the reporter's identity (sworn officers, non-law enforcement investigators, or citizens), and factors other than monetary value, like towaway necessity. The impact of practice variations on crash data quality, particularly PDO reporting, is unclear.

To better understand State PDO data collection practices NHTSA began a research project. To date the research project has compiled State PDO thresholds as outlined in State statutes for the past 15 years, investigated the use of abbreviated reports for PDO crashes, and conducted a literature review on the extent and costs of PDO crashes, crash reporting thresholds, and alternatives to PDO reporting by sworn officers. The next phase of this research effort moves from examining existing literature and State statutes on PDO data collection practices to speaking with select States and agencies regarding their practices and conducting crash data analyses to investigate the impact of different PDO data collection practices on data quality and safety analyses.

This notice requests information from interested parties, including State crash data owners, highway safety offices, law enforcement, and other stakeholders to assist NHTSA in conducting research to investigate different PDO crash data collection practices across the United States and the impacts of these PDO data collection practices (e.g., economic impacts such as cost or time savings, impacts to traffic safety analyses, impacts to vulnerable road users, etc.). NHTSA plans to utilize the information provided under this Request for Information to enhance and support the development of the next phase in the research project.

Request for Information

The agency is interested in information that would help develop and implement the next phase of research into State PDO data collection practices. This includes information about States' PDO thresholds (the research team is examining all changes in the property-damage aspects of reporting thresholds: changes in the minimum dollar amount of damage, changes from a dollar-amount threshold to a towaway threshold, and elimination of the threshold altogether); the use of citizen/driver report forms; and whether States utilize non-sworn officers to report PDO crashes. NHTSA hereby seeks further information based on the below questions. This list is not exhaustive, and we encourage commenters to provide any further information that they believe is relevant to inform the agency as it seeks to conduct the next phase of research into State PDO data collection practices.

(1) How does your State/jurisdiction determine if a crash report came from a sworn law enforcement officer or from a non-sworn officer?

a. Ideally, this would be a data element in the crash report database showing the type of person who generated the report/data. If there are codes for sworn officer, non-sworn officer, and citizen (involved party), that would answer this question and Question #3 as well. However, having the indicator for sworn or non-sworn is important for this first question. Does your crash database include a data element that supports this?

b. Officer badge number could be a second possible way to differentiate crash reports from sworn- versus non-sworn officers. Do you have badge numbers in the crash report/crash database and badge number lists identifying the type of officer (sworn versus non-sworn)?

c. Can you provide information on any training differences for sworn versus non-sworn officers related to their crash reporting processes, knowledge, or duties?

(2) Can your State supply summary statistics of crash data surrounding the most recent change in the crash reporting threshold (i.e., the frequency of crashes before and after the change)?

a. We are most concerned with threshold changes in the past 15 years (i.e., 2009 or more recent). We would hope to get the frequency of crashes for each KABCO severity for 5 years before and after the change. If your State changed its threshold in 2009, for example, we would ask for data from two periods: 2004 to 2008, and 2009 to 2013. Based on that example, can your system supply summary statistics of crash data for the period 5 years before and 5 years after the last threshold change?

b. If the reporting threshold change took place mid-year (rather than on January 1st), we would need to know the implementation date for the change. In that case, we would like to receive the frequency of crashes for the year the change took place plus data for 5 years before and 5 years after the change (11 years' data total, including the change year). Can your system provide data to meet that request?

c. If it has been fewer than 5 years since your most recent threshold change, can you provide any available post-change crash frequency data and can we also obtain the crash frequency for 5 years before that change?

d. If there has been more than one change in threshold in the past 15 years, can you please describe the before- and after-change periods for each of the successive threshold changes and tell us if crash frequency data would be available for those periods?

(3) Does your State use citizen/driver report forms for crash reporting?

a. How does your State collect the data from crash-involved persons?

b. How is the data from these reports stored? Specifically, is it added to the statewide crash database and, if so, are those reports tagged in some way to indicate that the data comes from a citizen/driver report?

c. How is the data from citizen/driver reports used? Specifically, is it used in safety analyses and, if so, which types of analyses (e.g., safety analyses of locations, analyses of driver contributing factors, indications of belt use, other)?

d. If a crash results in both a report written by a law enforcement officer (sworn or non-sworn) and a citizen report, are both versions stored in the statewide crash database? Are both used in safety analyses? Are the data blended from both sources (and if so, how)?

This notice is for information purposes only. The agency will review and consider information provided in response to this notice as it conducts the next phase of research into State PDO data collection practices but will not respond to comments.

Chou-Lin Chen,
Associate Administrator for the National Center for Statistics and Analysis.

[FR Doc. 2024-23099 Filed 10-15-24; 8:45 am]

BILLING CODE 4910-59-P